FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Blue Carrier Line, Inc. (NVO), 157 Broad Street, #305, Red Bank, NJ 07701, Officer: Mary (Mickey) McKenna-O'Brien, President/Vice-President/Secretary/Treasurer, (Qualifying Individual), Application Type: QI Change.

KG & Dons Express Shipping Import Inc. (NVO & OFF), 491 East 165th Street, Bronx, NY 10456, Officers: Sampson S. Nyarko, President (Qualifying Individual), Derrick Agyennim, Secretary, Application Type: New NVO & OFF License.

Sapia Logistics, Inc. (NVO & OFF), 1331 Gemini Street, Suite #103, Houston, TX 77058, Officers: Vernon Darko, President, (Qualifying Individual), Eric Miller, Vice President, Application Type: New NVO & OFF License.

Dated: May 6, 2011.
Karen V. Gregory,
Secretary.

[FR Doc. 2011-11603 Filed 5-11-11; 8:45 am]

BILLING CODE 6730-01-P